DEPARTMENT OF THE INTERIOR

Fish and Wildlife Service

[FWS-R9-IA-2008-N0080; 96300-1671-0000-P5]

Receipt of Applications for Permit

AGENCY: Fish and Wildlife Service, Interior.

ACTION: Notice of receipt of applications for permit.

SUMMARY: The public is invited to comment on the following applications to conduct certain activities with endangered species and marine mammals.

DATES: Written data, comments or requests must be received by May 23, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to Section 10(c) of the Endangered Species Act of 1973, as amended (16 U.S.C. 1531 et seq.). Written data, comments, or requests for copies of these complete applications should be submitted to the Director (address above).

Applicant: Dallas World Aquarium, Dallas, TX, PRT-179127.

The applicant requests a permit to export fifty seven female captive-born Orinoco crocodiles (Crocodylus intermedius) to Venezuela for the purpose of enhancement of the species through re-introduction into the wild and conservation education.

Applicant: Zoological Society of Philadelphia, Philadelphia, PA, PRT-174613.

The applicant requests a permit to import one female jaguar (Panthera onca) from the Belize Zoo and Tropical Education Center, Belize City, Belize for the purpose of enhancement of the species through captive propagation and conservation education.

Applicant: Zoological Society of Philadelphia, Philadelphia, PA, PRT-174614.

The applicant requests a permit to import biological samples from one female jaguar (Panthera onca) from the Belize Zoo and Tropical Education Center, Belize City, Belize, for medical evaluation prior to the jaguar's import, for the purpose of enhancement of the species through captive propagation and conservation education.

Applicant: Cincinnati Zoo & Botanical Garden, Cincinnati, OH, PRT-171630.

On March 17, 2008, (73 FR 14266), we published a request by the applicant for a permit to import black-footed cats (Felis nigripes) from Cat Conservation Trust, Cradock, South Africa for the purpose of enhancement of the survival of the species. Subsequent to this publication, it was determined that the number of animals published to be imported was incorrect; the actual number of black-footed cats to be imported is three males and two females. Therefore, we are republishing this request with the correct quantity.

Applicant: Thomas E. Ferry, Ponca, NE, PRT-177153.

The applicant requests a permit to import the sport-hunted trophy of one male bontebok (Damaliscus pygargus pygargus) culled from a captive herd maintained under the management program of the Republic of South Africa, for the purpose of enhancement of the survival of the species.

Applicant: Jay R. Bollinger, Wenatchee, WA, PRT-174402.

The applicant requests a permit to import the sport-hunted trophy of one male bontebok (Damaliscus pygargus pygargus) culled from a captive herd maintained under the management program of the Republic of South Africa, for the purpose of enhancement of the survival of the species.

Applicant: Thomas J. Hammond, Oakland Twp, MI, PRT-179304.

The applicant requests a permit to import the sport-hunted trophy of one male bontebok (Damaliscus pygargus pygargus) culled from a captive herd maintained under the management program of the Republic of South Africa, for the purpose of enhancement of the survival of the species.

Applicant: Leaha R. Wirth, Beavercreek, OR, PRT-178910.

The applicant requests a permit to import the sport-hunted trophy of one male bontebok (Damaliscus pygargus pygargus) culled from a captive herd maintained under the management program of the Republic of South Africa, for the purpose of enhancement of the survival of the species.

Marine Mammals

The public is invited to comment on the following applications for a permit to conduct certain activities with marine mammals. The applications were submitted to satisfy requirements of the Marine Mammal Protection Act of 1972, as amended (16 U.S.C. 1361 et seq.), and the regulations governing marine mammals (50 CFR Part 18). Written data, comments, or requests for copies of the complete applications or requests for a public hearing on these applications should be submitted to the Director (address above). Anyone requesting a hearing should give specific reasons why a hearing would be appropriate. The holding of such a hearing is at the discretion of the Director.

Applicant: James R. Martell, Glenns Ferry, ID, PRT-179699.

The applicant requests a permit to import a polar bear (Ursus maritimus) sport hunted from the Northern Beaufort Sea polar bear population in Canada for personal, noncommercial use.

Applicant: James W. Box, Bloomfield, IA, PRT-179716.

The applicant requests a permit to import a polar bear (Ursus maritimus) sport hunted from the Northern Beaufort Sea polar bear population in Canada for personal, noncommercial use.

Applicant: William A. Ladd, Unalakleet, AK, PRT-179759.

The applicant requests a permit to import a polar bear (Ursus maritimus) sport hunted from the Lancaster Sound polar bear population in Canada for personal, noncommercial use.

Dated: March 28, 2008.
Lisa J. Lierheimer,
Senior Permit Biologist, Branch of Permits, Division of Management Authority.

[FR Doc. E8-8766 Filed 4-22-08; 8:45 am]

BILLING CODE 4310-55-P